Title 3—

The President

Presidential Determination No. 2025-12 of September 8, 2025

Presidential Determination on Major Drug Transit or Major Illicit Drug Producing Countries for Fiscal Year 2026

Memorandum for the Secretary of State

By the authority vested in me as President by the Constitution and the laws of the United States, including section 706(1) of the Foreign Relations Authorization Act, Fiscal Year 2003 (Public Law 107-228) (FRAA), I hereby identify the following countries as major drug transit or major illicit drug producing countries: Afghanistan, The Bahamas, Belize, Bolivia, Burma, the People's Republic of China (PRC), Colombia, Costa Rica, the Dominican Republic, Ecuador, El Salvador, Guatemala, Haiti, Honduras, India, Jamaica, Laos, Mexico, Nicaragua, Pakistan, Panama, Peru, and Venezuela.

A country's presence on the foregoing list is not necessarily a reflection of its government's counterdrug efforts or level of cooperation with the United States. Consistent with the statutory definition of a major drug transit or major illicit drug producing country set forth in sections 481(e)(2) and 481(e)(5) of the Foreign Assistance Act of 1961, as amended (Public Law 87-195) (FAA), the reason countries are placed on the list is the combination of geographic, commercial, and economic factors that allow drugs or precursor chemicals to be transited or produced, even if a government has engaged in robust and diligent narcotics control and law enforcement measures.

Pursuant to section 706(2)(A) of the FRAA, I hereby designate Afghanistan, Bolivia, Burma, Colombia, and Venezuela as having failed demonstrably during the previous 12 months to both adhere to their obligations under international counternarcotics agreements and to take the measures required by section 489(a)(1) of the FAA. Included with this determination are justifications for the designations of Afghanistan, Bolivia, Burma, Colombia, and Venezuela, as required by section 706(2)(B) of the FRAA. I have also determined, in accordance with the provisions of section 706(3)(A) of the FRAA, that United States assistance to Bolivia, Burma, Colombia, and Venezuela is vital to the national interests of the United States.

Transnational organized crime's trafficking of fentanyl and other deadly illicit drugs into the United States has created a national emergency, including a public health crisis in the United States that remains the leading cause of death for Americans ages 18 to 44. More than 40 percent of Americans know someone who has died from an opioid overdose, and in 2024 the United States averaged over 200 deaths daily due to illicit drugs. This remains unacceptable, and my Administration is deploying every aspect of American power and unprecedented resources to defeat this threat to our Nation.

First, I have secured our borders using the full range of law enforcement and military resources necessary to safeguard our Nation's security and sovereignty. For the first time in 4 years, our border is no longer an open sieve for drug terrorist cartels, human traffickers, and all others who would do our country harm. American lives are being saved, with overdose deaths finally starting to recede significantly for the first time in over a decade.

I have also marshalled United States economic strength to compel greater cooperation from our North American neighbors to confront the drug threat and do their part. In Canada, Prime Minister Mark Carney responded by appointing a fentanyl czar and proposing legislation to increase the inspection powers of law enforcement, but more action is needed to stop fentanyl and other drugs from crossing our border and to arrest drug criminals exploiting Canadian territory. In Mexico, President Claudia Sheinbaum has increased cooperation to confront the powerful cartels that poison both our countries with drugs and violence. Mexico has surged 10,000 National Guard troops to our shared border, achieved major fentanyl and precursor chemical seizures, and transferred 29 high-value targets—including major cartel figures—to United States custody to stand trial for their crimes. My Administration has worked closely with President Sheinbaum to achieve the most secure southwest border in history, saving lives and protecting communities from the scourge of fentanyl. This surge in Mexico's efforts must be sustained and institutionalized. Much more remains to be done by Mexico's government to target cartel leadership, along with their clandestine drug labs, precursor chemical supply chains, and illicit finances. Over the next year, the United States will expect to see additional, aggressive efforts by Mexico to hold cartel leaders accountable and disrupt the illicit networks engaged in drug production and trafficking.

The United States will work with Mexico and other countries to target these national security threats cooperatively where we can, and through our own sovereign authorities where necessary. My decision to identify Mexico's drug cartels and other transnational criminal organizations as foreign terrorist organizations opened new authorities for the United States to dismantle these groups using sanctions, expanded prosecution authorities, and other resources. My Administration has also implemented visa restrictions against family members and close associates of drug traffickers to safeguard our country.

While the United States will devote all necessary resources to punish criminals enabling the production, transportation, and smuggling of illicit drugs across our borders, I will also call on countries where these drugs originate and transit to fulfill their obligations and shut off these supplies—or face serious consequences.

The PRC's role as the world's largest source of precursor chemicals fueling illicit fentanyl production has been well documented. For too long, the PRC has enabled illicit fentanyl production in Mexico and elsewhere by subsidizing the export of the precursor chemicals needed to produce these deadly drugs and failing to prevent Chinese companies from selling these precursors to known criminal cartels. For this reason, I took bold action to hold Beijing accountable by implementing an additional 20 percent tariff on the PRC for their failure to enact tangible, consequential reforms to stem the flow of precursor chemicals. I also signed an Executive Order eliminating the duty-free de minimis treatment for low-value imports from the PRC, which Chinese companies had used to hide illicit substances in the flow of legitimate commerce. The PRC is also a major supplier fueling global epidemics of other synthetic narcotics, including nitazenes and methamphetamine. The PRC's leadership can and must take stronger and sustained action to cut down these chemical flows and prosecute the drug criminals facilitating them.

In Colombia, coca cultivation and cocaine production have surged to all-time records under President Gustavo Petro, and his failed attempts to seek accommodations with narco-terrorist groups only exacerbated the crisis. Under President Petro's leadership, coca cultivation and cocaine production have reached record highs while Colombia's government failed to meet even its own vastly reduced coca eradication goals, undermining years of mutually beneficial cooperation between our two countries against narco-terrorists. For this reason, I have designated Colombia as having failed demonstrably to meet its drug control obligations. Colombia's security institutions and municipal authorities continue to show skill and courage in confronting terrorist and criminal groups, and the United States values the service and sacrifice of their dedicated public servants across all levels of government. The failure of Colombia to meet its drug control obligations over the past year rests solely with its political leadership. I will consider changing this designation if Colombia's government takes more aggressive action to eradicate coca and reduce cocaine production and trafficking, as well as hold those producing, trafficking, and benefiting from the production of cocaine responsible, including through improved cooperation with the United States to bring the leaders of Colombian criminal organizations to justice.

In Venezuela, the criminal regime of indicted drug trafficker Nicolas Maduro leads one of the largest cocaine trafficking networks in the world, and the United States will continue to seek to bring Maduro and other members of his complicit regime to justice for their crimes. We will also target Venezuelan foreign terrorist organizations such as Tren de Aragua and purge them from our country.

Bolivia's government has taken some positive steps to increase cocaine seizures and to work with United States law enforcement to bring drug criminals to justice, including Maximiliano Davila, the country's corrupt former anti-drug chief. However, much work remains for Bolivia to consistently uphold its counterdrug commitments and ensure that it is not a safe haven for narco-trafficking groups to thrive.

In Afghanistan, despite the Taliban's announced ban on illegal drugs, drug stockpiles and ongoing production—including expanding production of methamphetamine—have sustained the flow of drugs to international markets. Revenue from this drug trade funds transnational criminal groups and supports international terrorists. Some members of the Taliban continue to profit from this trade, and I am once again designating Afghanistan as having failed demonstrably to uphold its drug control obligations given the serious threats to United States interests and international security.

You are authorized and directed to submit this determination, with the accompanying memoranda of justification, under section 706 of the FRAA, to the Congress, and to publish this determination in the Federal Register.

THE WHITE HOUSE,

Washington, September 8, 2025

[FR Doc. 2025-18078

Filed 9-16-25; 11:15 am]

Billing code 4710-10-P